DEPARTMENT OF JUSTICE

Immigration and Naturalization Service

[INS No. 2084-00]

Notice of Availability of Environmental Assessment (EA) for the Installation, Operation, and Maintenance of a Remote Video Surveillance (RVS) System in Whatcom County, WA

AGENCY: Immigration and Naturalization Service, Justice.

ACTION: Notice of Availability of Environmental Assessment (EA).

SUMMARY:

Proposed Action

The Immigration and Naturalization Service (INS) has completed an Environmental Assessment (EA) for the Installation, Operation, and Maintenance of a Remote Video Surveillance (RVS) system in Whatcom County, Washington. The RVS system would consist of 45.5 miles of underground fiber optic line and 32 camera sites mounted on poles ranging in height from 50 to 80 feet. The proposed action would involve construction of an underground fiber optic line inside a 2-inch diameter (maximum) conduit by use of trenching, plowing, or directional boring equipment. The observation poles would be placed within augured holes and reinforced where necessary. All line and pole locations have been surveyed to identify wetlands, streams, endangered species habitat, or cultural resources. Where such resources were identified, the line would be relocated or installed via directional boring to avoid potential adverse impacts. Based upon the findings of this analysis, no significant adverse environmental impacts would result from the proposed action. Positive socioeconomic benefits would result from increased capabilities to interdict terrorist activity and illegal drug or alien trafficking.

Alternatives to the Proposed Action

The “No Action” alternative would reduce the effectiveness of the Border Patrol in performing counter drug and alien interdictions. The “Microwave” alternative would be more obtrusive, less flexible, and more expensive. The “increased staffing” alternative would be prohibitively expensive and would place an increased surveillance burden on Border Patrol staff.

A copy of the final EA/Finding of No Significant Impact (FONSI) can be obtained from the INS at the following location: Ramon Garcia, Program Officer, Immigration and Naturalization Service Facilities and Engineering 425 I Street, NW, Room 2060, Washington, DC, 20536, Telephone: (202) 616-2588, Fax: (202) 514-0579 e-mail: ramon.garcia@usdoj.gov.

FOR FURTHER INFORMATION CONTACT: Richard Diefenbeck, Director of Facilities and Engineering Division, 425 I Street, NW, Washington, DC 20536, telephone (202) 514-3099.

Dated: September 26, 2000.
Doris Meissner,
Commissioner, Immigration and Naturalization Service.

[FR Doc. 00-26220 Filed 10-11-00; 8:45 am]

BILLING CODE 4410-10-M